DEPARTMENT OF HEALTH AND HUMAN SERVICES

Administration for Children and Families

State Median Income Estimate for a Four-Person Family: Notice of the Federal Fiscal Year (FFY) 2010 State Median Income Estimates for Use Under the Low Income Home Energy Assistance Program (LIHEAP) (Catalog of Federal Domestic Assistance Number 93.568) Administered by the U.S. Department of Health and Human Services (HHS), Administration for Children and Families, Office of Community Services, Division of Energy Assistance

AGENCY: Administration for Children and Families, Office of Community Services, Division of Energy Assistance, HHS.

ACTION: Notice of State median income estimates for FFY 2010.

SUMMARY: This notice announces to LIHEAP grantees the estimated median income of four-person families in each State and the District of Columbia for FFY 2010 (October 1, 2009, to September 30, 2010). LIHEAP grantees that choose to base their income eligibility criteria on these State median income estimates may adopt these estimates (up to 60 percent) on the estimates' date of publication in the Federal Register or on a later date as discussed below. This enables these grantees to implement this notice during the period between the heating and cooling seasons.

However, by October 1, 2009, or the beginning of the grantees' fiscal years, whichever is later, these grantees must adjust their income eligibility criteria so that such criteria are in accord with the FFY 2010 State median income estimates.

This listing of 60 percent of estimated State median incomes provides one of the maximum income criteria that LIHEAP grantees may use in determining a household's income eligibility for LIHEAP.

DATES: Effective Date: For each LIHEAP grantee, these estimates become effective at any time between their date of publication in the Federal Register and the later of October 1, 2009, or the beginning of that grantee's fiscal year.

FOR FURTHER INFORMATION CONTACT: Peter Edelman, Office of Community Services, Division of Energy Assistance, 5th Floor West, 370 L'Enfant Promenade, SW.,Washington, DC 20447, Telephone: (202) 401-5292, E-Mail: peter.edelman@acf.hhs.gov.

SUPPLEMENTARY INFORMATION: Under the provisions of section 2603(11) of Title XXVI of the Omnibus Budget Reconciliation Act of 1981, Public Law (Pub. L.) 97-35, as amended, HHS announces the estimated median income of four-person families for each State, the District of Columbia, and the United States for FFY 2010 (October 1, 2009, through September 30, 2010).

Section 2605(b)(2)(B)(ii) of this Act provides that 60 percent of the median income for each State and the District of Columbia (State median income, or SMI), as annually established by the Secretary of Health and Human Services, is one of the income criteria that LIHEAP grantees may use in determining a household's eligibility for LIHEAP.

LIHEAP was last authorized by the Energy Policy Act of 2005, Public Law 109-58, which was enacted on August 8, 2005. This authorization expired on September 30, 2007, and reauthorization remains pending.

The SMI estimates that HHS publishes in this notice are three-year estimates derived from the American Community Survey (ACS) conducted by the U.S. Census Bureau, U.S. Department of Commerce (Census Bureau). HHS obtained these estimates directly from the Census Bureau. For additional information about the ACS State median income estimates, see http://www.census.gov/hhes/www/income/medincsizeandstate.html. For additional information about the ACS in general, see http://www.census.gov/acs/www/ or contact the Census Bureau's Housing and Household Economic Statistics Division at (301) 763-3243.

Under the advice of the Census Bureau, HHS switched to three-year estimates rather than single-year estimates to reduce the large year-to-year fluctuations that the single-year estimates tend to generate for certain States and the District of Columbia. The change from the single-year to three-year estimates caused the FFY 2010 estimates to drop by about two percent on average. HHS plans to use the Census Bureau's ACS-derived SMI three-year estimates for all fiscal years after 2010. For further information about ACS one-year and three-year estimates, see http://factfinder.census.gov/jsp/saff/SAFFInfo.jsp?_content=acs_guidance.html.

The State median income estimates, like those derived from any survey, are subject to two types of errors: (1) Nonsampling Error, which consists of random errors that increase the variability of the data and non-random errors that consistently direct the data into a specific direction; and (2) Sampling Error, which consists of the error that arises from the use of probability sampling to create the sample. For additional information about the accuracy of the ACS State median income estimates, see http://www.census.gov/acs/www/Downloads/ACS/accuracy2005-2007.pdf.

A State-by-State listing of SMI and 60 percent of SMI for a four-person family for FFY 2010 follows. The listing describes the method for adjusting SMI for families of different sizes as specified in regulations applicable to LIHEAP, at 45 CFR 96.85(b), which were published in the Federal Register on March 3, 1988, at 53 FR 6824 and amended on October 15, 1999, at 64 FR 55858.

Dated: March 5, 2009.
Yolanda J. Butler, PhD,
Acting Director, Office of Community Services.

Estimated State Median Income for a Four-Person Family, by State, for Federal Fiscal Year (FFY) 2010, for Use in the Low Income Home Energy Assistance Program (LIHEAP)

States | Estimated state median income for a four-person family¹ | 60 Percent of estimated state median income for a four-person family ² ³
Alabama | $60,382 | $36,229
Alaska | 79,770 | 47,862
Arizona | 66,839 | 40,103
Arkansas | 54,662 | 32,797
California | 76,388 | 45,833
Colorado | 76,200 | 45,720
Connecticut | 97,708 | 58,625
Delaware | 79,709 | 47,825
District of Columbia | 64,678 | 38,807
Florida | 67,014 | 40,208
Georgia | 68,776 | 41,266
Hawaii | 84,438 | 50,663
Idaho | 60,560 | 36,336
Illinois | 77,813 | 46,688
Indiana | 68,410 | 41,046
Iowa | 70,967 | 42,580
Kansas | 69,863 | 41,918
Kentucky | 61,207 | 36,724
Louisiana | 61,438 | 36,863
Maine | 66,948 | 40,169
Maryland | 96,952 | 58,171
Massachusetts | 93,351 | 56,011
Michigan | 75,149 | 45,089
Minnesota | 83,444 | 50,066
Mississippi | 52,870 | 31,722
Missouri | 66,939 | 40,163
Montana | 62,353 | 37,412
Nebraska | 69,854 | 41,912
Nevada | 68,646 | 41,188
New Hampshire | 88,625 | 53,175
New Jersey | 97,326 | 58,396
New Mexico | 53,041 | 31,825
New York | 78,061 | 46,837
North Carolina | 64,591 | 38,755
North Dakota | 67,183 | 40,310
Ohio | 71,063 | 42,638
Oklahoma | 57,247 | 34,348
Oregon | 67,605 | 40,563
Pennsylvania | 75,161 | 45,097
Rhode Island | 83,241 | 49,945
South Carolina | 61,494 | 36,896
South Dakota | 64,930 | 38,958
Tennessee | 61,581 | 36,949
Texas | 62,358 | 37,415
Utah | 65,460 | 39,276
Vermont | 73,550 | 44,130
Virginia | 81,919 | 49,151
Washington | 77,676 | 46,606
West Virginia | 56,430 | 33,858
Wisconsin | 75,111 | 45,067
Wyoming | 72,788 | 43,673
Note: FFY 2010 covers the period of October 1, 2009, through September 30, 2010. The estimated median income for a four-person family living in the United States for this period is $72,336. These estimates become effective for LIHEAP at any time between the date of this publication and October 1, 2009, or the beginning of a LIHEAP grantee's fiscal year, whichever is later.
¹ Prepared by the U.S. Census Bureau, U.S. Department of Commerce (Census Bureau), from an average of data from the 2005, 2006 and 2007 American Community Surveys (ACSs). These estimates, like those derived from any survey, are subject to two types of errors: (1) Nonsampling Error, which consists of random errors that increase the variability of the data and non-random errors that consistently direct the data into a specific direction; and (2) Sampling Error, which consists of the error that arises from the use of probability sampling to create the sample.
² These figures were calculated by the U.S. Department of Health and Human Services, Administration for Children and Families, Office of Community Services, Division of Energy Assistance (DEA) by multiplying the estimated State median income for a four-person family for each State by 60 percent.
³ To adjust for different sizes of family, 45 CFR 96.85 calls for multiplying 60 percent of a State's estimated median income for a four-person family by the following percentages: 52 percent for one person, 68 percent for two persons, 84 percent for three persons, 100 percent for four persons, 116 percent for five persons, and 132 percent for six persons. For each additional family member above six persons, 45 CFR 96.85 calls for adding 3 percentage points to the percentage for a six-person family (132 percent) and multiply the new percentage by 60 percent of a State's estimated median income for a four-person family.

[FR Doc. E9-5412 Filed 3-12-09; 8:45 am]

BILLING CODE 4184-01-P